DEPARTMENT OF TRANSPORTATION

Federal Transit Administration

[Docket Number: FTA-2007-25737]

Notice of Public Meetings on Notice of Proposed Rulemaking for Major Capital Investment Projects

AGENCY: Federal Transit Administration (FTA), DOT.

ACTION: Notice.

SUMMARY: This notice announces the dates, times, and locations of five public meetings to be held in September and October 2007 concerning a Notice of Proposed Rulemaking (NPRM) on Major Capital Investment Projects. Presentations delivered at these meetings will describe the provisions of the NPRM issued by the Federal Transit Administration (FTA) on August 3, 2007 that proposes to implement the provisions of Safe, Accountable, Flexible, Efficient, Transportation Equity Act: A Legacy for Users (SAFETEA-LU), the Federal surface transportation law.

DATES: See SUPPLEMENTARY INFORMATION section for meeting dates.

ADDRESSES: See SUPPLEMENTARY INFORMATION section for meeting locations

FOR FURTHER INFORMATION CONTACT: Ron Fisher, Office of Planning and Environment, telephone (202) 366-4033, Federal Transit Administration, U.S. Department of Transportation, 1200 New Jersey Avenue, SE., Washington, DC 20590 or Ronald.Fisher@dot.gov.

SUPPLEMENTARY INFORMATION: The meetings listed below will provide a forum for FTA staff to make oral presentations on the Notice of Proposed Rulemaking (NPRM) for Major Capital Investment Projects. Additionally, the sessions are intended to encourage interested parties and stakeholders to submit their comments to the official docket by the close of the comment period on November 3, 2007 per the instructions found in the NPRM.

I. Meetings

The Major Capital Investment Projects NPRM public outreach session meeting dates and addresses are:

1. Thursday, September 13th, 9 a.m. to 4 p.m. local time, Los Angeles, CA—Los Angeles County Metropolitan Transit Authority (MTA) Board Room, One Gateway Plaza, Los Angeles, CA 90012. Attendees of this session must register in advance at http://www.metro.net/newstart.htm.

2. Tuesday, September 18th, 9 a.m. to 4 p.m. local time, Denver, CO—Regional Transit District, T&D Rooms, 1600 Blake Street, Denver, CO 80202.

3. Wednesday, September 26th, 9 a.m. to 4 p.m. local time, Chicago, IL—DePaul University Downtown Loop Campus Conference Center, Room 8005, One East Jackson Boulevard, Chicago, IL 60604.

4. Tuesday, October 2nd, 9 a.m. to 4 p.m. local time, Washington, DC—Hilton Washington, Georgetown West Room, 1919 Connecticut Avenue NW., Washington, DC 20009. A block of 15 rooms have been reserved.

5. Thursday, October 9th, 2 p.m. to 6:30 p.m. local time, Charlotte, NC—Charlotte Convention Center, room to be announced, 501 South College, Charlotte, NC, 28202. This meeting is being held in conjunction with the APTA Annual Meeting taking place in Charlotte October 7-10th.

II. Presentations and Comment Format

Meeting participants should arrive early because each meeting is anticipated to begin promptly at the appointed time.

A. Questions and Comments

Meeting attendees will have an opportunity to pose questions to the speakers and to the group as a whole. Individuals who wish for their comments to be considered and become part of the official public record must submit their comments directly to the U.S. Docket via postal mail, fax, or through the online Docket Management System (DMS) by November 3, 2007. For instructions on how to submit comments to the Docket (Docket Number FTA-2007-25737), please refer to the NPRM.

B. Registration

Registration is only required for the information session in Los Angeles on September 13th. Those who wish to attend that session must register in advance on MTA's Web site at: http://www.metro.net/newstart.htm.

III. Special Accommodations

All locations are ADA-accessible and sign language interpreters will be present at each meeting. Individuals attending a meeting who are hearing or visually impaired and have special requirements, or a condition that requires special assistance or accommodations, may indicate this by calling Erica Hargrove at 202-366-2360.

Issued on: August 20, 2007.
James S. Simpson,
Administrator.

[FR Doc. E7-16831 Filed 8-23-07; 8:45 am]

BILLING CODE 4910-57-P